DEPARTMENT OF VETERANS AFFAIRS

[OMB Control No. 2900-0021]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before July 19, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-0021” in any correspondence.

FOR FURTHER INFORMATION CONTACT: Denise McLamb, Records Management Service (005G2), Department of Veterans Affairs, 810 Vermont Avenue, NW., Washington, DC 20420, (202) 565-8374, fax (202) 565-7870 or e-mail denise.mclamb@mail.va.gov. Please refer to “OMB Control No. 2900-0021” In any correspondence.

SUPPLEMENTARY INFORMATION: Titles:

a. Notice of Default, VA Form 26-6850.

b. Notice of Default and Intention to Foreclose, VA Form 26-6850a.

c. Notice of Intention to Foreclose, VA Form 26-6851.

OMB Control Number: 2900-0021.

Type of Review: Extension of a currently approved collection.

Abstract: Holders of guaranteed loans are required to notify VA within 45 days of a loan default due to nonpayment of any installment for a period of 60 days from the date of the first uncured default. Holders are also required to notify VA of their intention to foreclose. After delivery of such notice to VA and 30 days has passed, the holder can begin court proceedings, give notice of sale under power of sale, or otherwise take steps to terminate the debtor's rights in the security.

VA Forms 26-6850 and 26-6851 require that servicing efforts are fully explained so that VA can determine whether supplemental servicing could develop further information to justify the extension of forbearance to the veterans-borrower as opposed to foreclosure. The information provided is used to coordinate the actions of VA and the holder to ensure that all legal requirements regarding foreclosure and claim payment are met. VA Form 26-6850a is filed by holders when defaults are determined insoluble by holders at the time the notice of default is filed with VA. This form provides both notice of default and intent to foreclosure together on one form.

An agency may not conduct or sponsor, and a person is not required to respond to a collection of information unless it displays a currently valid OMB control number. The Federal Register Notice with a 60-day comment period soliciting comments on this collection of information was published on April 2, 2007 at page 15768.

Affected Public: Business or other for profit, and Individuals or households.

Estimated Annual Burden: 66,166.

a. VA Form 26-6850—20,166 hours.

b. VA Form 26-6850a—26,000 hours.

c. VA Form 26-6851—20,000 hours.

Estimated Average Burden per Respondent:

a. VA Form 26-6850—10 minutes.

b. VA Form 26-6850a—20 minutes.

c. VA Form 26-6851—15 minutes.

Frequency of Response: On occasion.

Estimated Number of Respondents: 279,000 hours.

a. VA Form 26-6850—121,000 hours.

b. VA Form 26-6850a—78,000 hours.

c. VA Form 26-6851—80,000 hours.

Dated: June 7, 2007.
By direction of the Secretary:
Denise McLamb,
Program Analyst, Records Management Service.

[FR Doc. E7-11770 Filed 6-18-07; 8:45 am]

BILLING CODE 8320-01-P